FEDERAL COMMUNICATIONS COMMISSION

47 CFR Part 73

[MM Docket No. 00-44, FCC 00-343]

Extension of the Filing Requirement for Children's Television Programming Reports (FCC Form 398)

AGENCY: Federal Communications Commission.

ACTION: Final rule; announcement of effective date.

SUMMARY: The Commission revised the children's educational television reporting requirements of commercial broadcast television licensees, which involved a number of revisions to FCC Form 398, the Children's Television Programming Report. Certain of these rule and form revisions contained new and modified information collection requirements and were published in the Federal Register on November 9, 2000. This document announces the effective date of the revised rules and form.

DATES: The revisions to § 73.3526(e)(11)(iii), published at 65 FR 67283 (November 9, 2000), became effective on January 1, 2001. The revised Form 398 will be used for the quarterly Children's Television Programming Reports due to be filed by April 10, 2001.

FOR FURTHER INFORMATION CONTACT: Kim Matthews, Mass Media Bureau, Policy and Rules Division, (202) 418-2130.

SUPPLEMENTARY INFORMATION: On December 15, 2000, the Office of Management and Budget (OMB) approved the information collection requirements contained in the revised 47 CFR 73.3526(e)(11)(iii) and FCC Form 398 pursuant to OMB Control Nos. 3060-0754. Accordingly, the information collection requirements contained in this rule became effective on January 1, 2001, and the revised form will be used for the quarterly Children's Television Programming Report due to be filed by April 10, 2001.

Federal Communications Commission.
Magalie Roman Salas,
Secretary.

[FR Doc. 01-4424 Filed 2-22-01; 8:45 am]

BILLING CODE 6712-01-P